DEPARTMENT OF DEFENSE

Office of the Secretary

Defense Intelligence Agency, Advisory Board, Standing Committee of Emerging Chemical and Biological Technology Advisory Committee of Experts Closed Panel Meeting

AGENCY: Defense Intelligence Agency, Department of Defense.

ACTION: Notice.

SUMMARY: Pursuant to the provisions of Subsection (d) of Section 10 of Public Law 92-463, as amended by Section 5 of Public Law 94-409, notice is hereby given that a closed meeting of the DIA Advisory Board, Standing Committee on Emerging Chemical and Biological Technology Advisory Committee of Experts was scheduled as follows:

DATES: February 25 & 26, 2003 (9 a.m.-5 p.m.).

ADDRESSES: Washington, DC 20009.

FOR FURTHER INFORMATION CONTACT: Mr. Jack A. McNulty, Director, DIA Advisory Board, Standing Committee on Emerging Chemical and Biological Technology Advisory Committee of Experts, Washington, DC 20340-1328, (202) 231-3507.

SUPPLEMENTARY INFORMATION: The entire meeting was devoted to the discussion of classified information as defined in section 552b(c)(I), Title 5 of the U.S. Code, and therefore was closed to the public. The Board received briefings on and discussed several current critical intelligence issues and advised the Director, DIA, on related scientific and technical matters.

Dated: March 3, 2003.
Patricia L. Toppings,
Alternate OSD Federal Register Liaison Officer, Department of Defense.

[FR Doc. 03-5534 Filed 3-7-03; 8:45 am]

BILLING CODE 5001-08-M